DEPARTMENT OF DEFENSE

Office of the Secretary

[Docket ID: DoD-2024-OS-0024]

Submission for OMB Review; Comment Request

AGENCY: Office of the Under Secretary of Defense (Comptroller)/Chief Financial Officer, Department of Defense (DoD).

ACTION: 30-Day information collection notice.

SUMMARY: The DoD has submitted to the Office of Management and Budget (OMB) for clearance the following proposal for collection of information under the provisions of the Paperwork Reduction Act.

DATES: Consideration will be given to all comments received by July 26, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Secondary Dependency Application; DD Form 137; OMB Control Number 0730-0014.

Type of Request: Revision.

Number of Respondents: 20,000.

Responses per Respondent: 1.

Annual Responses: 20,000.

Average Burden per Response: 60 minutes.

Annual Burden Hours: 20,000.

Needs and Uses: The information collection requirement is necessary to certify dependency or obtain information to determine entitlement to the following entitlements: Basic Allowance for Housing, Uniformed Services Identification and Privilege card, travel allowances, morale, welfare, and recreation privileges, and commissary and exchange. Information regarding a claimed individual is provided by the service member or other sponsor. A medical doctor or psychiatrist, college administrator, or a dependent's employer may need to provide information for claims. Pursuant to 37 United States Code (U.S.C.) 401, 403, 476, and 10 U.S.C. 1072 and 1076, the sponsor must provide more than one half of the claimed dependent's monthly expenses. DoD Financial Management Regulation (DoD FMR) 7000.14-R, Vol. 7A defines dependency and directs that dependency be proven. Dependency claim examiners use the information from the DD Form 137 to determine benefit eligibility. The new, consolidated DD Form 137 is in direct support of the updated DoD FMR Volume 7A, chapter 26: “Housing Allowances,” which published in May 2024. Since DoD adopted the definition of support (October 2022) consistent with Treasury regulations, tax returns can be utilized as evidence of support. However, the Secondary Dependent must still meet the other definitions of a “dependent” under 10 U.S.C. 1072. If the member refuses or is unable to provide a tax return, the member can complete a worksheet (similar to that used by the IRS) that substantiates support.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Reginald Lucas.

Requests for copies of the information collection proposal should be sent to Mr. Lucas at whs.mc-alex.esd.mbx.dd-dod-information-collections@mail.mil.

Dated: June 20, 2024.
Aaron T. Siegel,
Alternate OSD Federal Register Liaison Officer, Department of Defense.

[FR Doc. 2024-14015 Filed 6-25-24; 8:45 am]

BILLING CODE 6001-FR-P